DEPARTMENT OF VETERANS AFFAIRS

[OMB Control No. 2900-NEW]

Agency Information Collection Activity Under OMB Review: Creating Options for Veterans Expedited Recovery (COVER) Commission Veterans Focus Groups: Mental Health Services Preferences and Utilization Data Collection

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before June 7, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Danny S. Green, Office of Quality, Performance and Risk (OQPR), Department of Veterans Affairs, 810 Vermont Avenue NW, Washington, DC 20420, (202) 421-1354 or email danny.green2@va.gov. Please refer to “OMB Control No. 2900-NEW” in any correspondence.

SUPPLEMENTARY INFORMATION:

Authority: 44 U.S.C. 3501-21.

Title: Creating Options for Veterans Expedited Recovery (COVER) Commission Veterans Focus Groups: Mental Health Services Preferences and Utilization Data Collection.

OMB Control Number: 2900-NEW.

Type of Review: New collection.

Abstract: The COVER Commission was established under the Comprehensive Addiction and Recovery Act of 2016 (CARA). Pursuant to Section 931(b)(2) of the CARA legislation, the COVER Commission is directed to conduct a patient-centered survey within each of the Veterans Integrated Service Networks. The survey will collect qualitative and demographic information from Veterans seeking and utilizing mental health services through VA and non-VA facilities. The findings will be compiled in a final report to the President, the Committees on Veterans' Affairs of the House of Representatives and the Senate, and the Secretary of Veterans Affairs.

An agency may not conduct or sponsor, and a person is not required to respond to, a collection of information unless it displays a currently valid OMB control number. The Federal Register Notice with a 60-day comment period soliciting comments on this collection of information was published at 84 FR 8153 on March 6, 2019, page 8153.

Affected Public: Individuals or Households.

Estimated Annual Burden: 400 hours.

Estimated Average Burden per Respondent: 120 minutes.

Frequency of Response: One time.

Estimated Number of Respondents: 200.

By direction of the Secretary.
Danny S. Green,
Interim VA Clearance Officer, Office of Quality, Performance and Risk (OQPR), Department of Veterans Affairs.

[FR Doc. 2019-09424 Filed 5-7-19; 8:45 am]

BILLING CODE 8320-01-P